RAILROAD RETIREMENT BOARD

Sunshine Act; Notice of Public Meeting

Notice is hereby given that the Railroad Retirement Board will hold a meeting on January 30, 2006, 9:30 a.m., at the Board's meeting room on the 8th floor of its headquarters building, 844 North Rush Street, Chicago, Illinois 60611. The agenda for this meeting follows:

(1) Congressional Justification language.

The entire meeting will be open to the public. The person to contact for more information is Beatrice Ezerski, Secretary to the Board, Phone No. 312-751-4920.

Dated: January 20, 2006.
Beatrice Ezerski,
Secretary to the Board.

[FR Doc. 06-738 Filed 1-23-06; 11:51 am]

BILLING CODE 7905-01-M